Title 3—

The President

Executive Order 14313 of July 3, 2025

Establishing the President's Make America Beautiful Again Commission

By the authority vested in me as President by the Constitution and the laws of the United States of America, it is hereby ordered:

Section 1. Purpose. The United States is blessed with vast beautiful landscapes, abundant natural resources, and a rich heritage of discovery by travelers and outdoorsmen. America's national parks, forests, waterways, and public lands have inspired generations and kindled our Nation's spirit of exploration. To ensure that the next generation of Americans inherits this same sense of duty and adventure, my Administration will prioritize conserving our great American national parks and outdoor recreation areas.

Years of mismanagement, regulatory overreach, and neglect of routine maintenance require action. Land-use restrictions have stripped hunters, fishers, hikers, and outdoorsmen of access to public lands that belong to them. These bureaucratic restrictions have undermined outdoor traditions and threatened conservation funding. The National Park Service and the United States Forest Service face more than $23 billion and $10.8 billion in deferred maintenance, respectively, leaving roads, trails, and historic landmarks in disrepair. Despite these challenges, our Nation has proven that conservation and economic growth go hand in hand. Since the signing of the Great American Outdoors Act (Public Law 116-152), the outdoor recreation economy has grown to $1.2 trillion in economic output, and, in 2023, comprised 3.1 percent of employees in the United States and supported 5 million jobs.

Through both innovation and commonsense policies, America can preserve its natural beauty and expand outdoor recreation opportunities for future generations. It is the policy of my Administration to prioritize responsible conservation, restore our lands and waters, and protect our Nation's outdoor heritage for the enjoyment of the American people.

Sec. 2. General Policies. All Federal land management agencies, as defined by 16 U.S.C. 6801(3), shall, to the extent practicable, ensure that their policies:

(a) promote responsible stewardship of natural resources while driving economic growth;

(b) expand access to public lands and waters for recreation, hunting, and fishing;

(c) encourage responsible, voluntary conservation efforts;

(d) cut bureaucratic delays that hinder effective environmental management; and

(e) recover America's fish and wildlife populations through proactive, voluntary, on-the-ground collaborative conservation efforts.

Sec. 3. Establishment and Composition of the President's Make America Beautiful Again Commission. (a) There is hereby established the President's Make America Beautiful Again Commission (Commission), which shall be chaired by the Secretary of the Interior (Chair), with the Assistant to the President for Domestic Policy serving as Executive Director (Executive Director).

(b) In addition to the Chair and the Executive Director, the Commission shall include the following officials or their designees:

(i) the Secretary of Defense;

(ii) the Secretary of Agriculture;

(iii) the Administrator of the Environmental Protection Agency;

(iv) the Director of the Office of Management and Budget;

(v) the Chairman of the Council of Economic Advisers;

(vi) the Assistant to the President and Chief of Staff;

(vii) the Assistant to the President for Economic Policy;

(viii) the Chairman of the Council on Environmental Quality; and

(ix) other members of my Administration invited to participate, at the discretion of the Chair and the Executive Director.

Sec. 4. Conserving Our National Treasures. The Commission shall advise and assist the President regarding how best to responsibly conserve America's national treasures and natural resources, including by:

(a) monitoring the implementation of this order and facilitating interagency coordination on conservation efforts;

(b) providing to the President actionable recommendations for improving conservation efforts;

(c) developing policies to recover fish and wildlife populations through collaboration rather than regulation, including policies involving coordination with State wildlife agencies;

(d) recommending to the President solutions to expand access to clean drinking water and restore aquatic ecosystems to improve water quality and availability; and

(e) developing policies to expand access to public lands, national parks, national forests, and wildlife refuges while promoting a wide range of outdoor recreation opportunities like hunting, fishing, hiking, biking, skiing, climbing, boating, off-roading, and wildlife viewing.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of the Interior.

THE WHITE HOUSE,

July 3, 2025.

[FR Doc. 2025-12774

Filed 7-8-25; 8:45 am]

Billing code 4310-10-P